DEPARTMENT OF TRANSPORTATION

Research and Special Programs Administration

[Cooperative Agreement DTRS656-00-H-0004]

Quarterly Performance Review Meeting on The Cooperative Agreement “Better Understanding of Mechanical Damage in Pipelines”

AGENCY: Research and Special Programs Administration (RSPA), DOT.

ACTION: Notice of meeting cancellation.

As a result of the tragic events of last week, the uncertainty of air travel, and the travel restrictions many companies have placed on their employees, the quarterly performance review meeting to report on progress with research titled “Better Understanding of Mechanical Damage in Pipelines,” scheduled for September 27, 2001, is canceled. This work is being managed by the Gas Research Institute (GTI) and performed by Battelle Memorial Institute along with the Southwest Research Institute. The meeting was previously announced in the Federal Register (66 FR 39392; July 30, 2001) and was to be held at the Sheraton Buckhead Hotel, 3405 Lenox Road, NE., Atlanta, GA beginning at 9 a.m.

FOR FURTHER INFORMATION CONTACT: Lloyd W. Ulrich, Agreement Officer's Technical Representative, Office of Pipeline Safety, telephone: (202) 366-4556, FAX: (202) 366-4566, e-mail: lloyd.ulrich@rspa.dot.gov. You may also contact Dr. Keith Leewis, GTI, telephone: (847) 768-0890, e-mail: keith.leewis@gastechnology.org.

Issued in Washington, DC on September 19, 2001.
Jeffrey D. Wiese,
Acting Associate Administrator for Pipeline Safety.

[FR Doc. 01-24087 Filed 9-25-01; 8:45 am]

BILLING CODE 4910-60-P